SOCIAL SECURITY ADMINISTRATION

Privacy Act of 1974; as Amended New System of Records and Routine Use Disclosures

AGENCY: Social Security Administration (SSA).

ACTION: Proposed New System of Records and Proposed Routine Uses.

SUMMARY: In accordance with the Privacy Act (5 U.S.C. 552a(e)(4) and (e)(11)), we are issuing public notice of our intent to establish a new system of records entitled, Social Security Administration Unified Measurement System/Managerial Cost Accountability System (SUMS/MCAS) 60-0371, and routine uses applicable to this system of records. SUMS/MCAS will consist of information related to five interrelated Agency initiatives: (1) Workload counts, (2) performance measures, (3) time allocation, (4) customer service records, and (5) managerial cost accountability. We invite public comments on this proposal.

DATES: We filed a report of SUMS/MCAS and its applicable routine uses with the Chairman of the Senate Committee on Homeland Security and Governmental Affairs, the Chairman of the House Committee on Government Reform, and the Director, Office of Information and Regulatory Affairs, Office of Management and Budget (OMB) on January 23, 2008. SUMS/MCAS and its routine uses will become effective on March 3, 2008, unless we receive comments warranting that they not become effective.

ADDRESSES: Interested individuals may comment on this publication by writing to the Executive Director, Office of Public Disclosure, Office of the General Counsel, Social Security Administration, Room 3-A-6 Operations Building, 6401 Security Boulevard, Baltimore, Maryland 21235-6401. All comments received will be available for public inspection at the above address.

FOR FURTHER INFORMATION CONTACT: Ms. Earlene Whitworth Hill, Social Insurance Specialist, Disclosure Policy Development and Services Division 1, Office of Public Disclosure, Office of the General Counsel, Social Security Administration, Room 3-A-6 Operations Building, 6401 Security Boulevard, Baltimore, Maryland 21235-6401, telephone at (410) 965-1817, or e-mail: earlene.whitworth.hill@ssa.gov.

SUPPLEMENTARY INFORMATION:

I. Background and Purpose of SUMS/MCAS

A. General Background

SUMS/MCAS will support SSA and the State Disability Determination Services (DDS) management and management information (MI) analysts in analyzing workloads, planning resources, performing cost allocation activities, improving access to MI, and improving work-power allocation, which in turn will help us improve customer service and reduce manual work. SUMS/MCAS will provide a single source of data, collected in a consistent manner, which will improve the quality, consistency, and access to information used throughout SSA and DDS. It will also produce detailed reports that will assist us in assessing office, unit, and employee performance. SUMS/MCAS will enable us to manage and account for resources through one uniform source of MI, combining five interrelated initiatives:

• Workload Counts.

• Performance Measure.

• Time Allocation.

• Customer Service Record.

• Managerial Cost Accountability.

B. Collection and Maintenance of the Data for SUMS/MCAS

SSA will collect and maintain information in SUMS/MCAS that is derived from SSA's mainframe and web-based computer usage files (log files), payroll and human resource databases, security files (including the Internet verification files and Internet enterprise security interface), and programmatic work measurement data collected from all SSA processing locations.

The information maintained in SUMS/MCAS will be maintained in paper and electronic formats. Specifically, it will contain some, or all, of the following information about our clients and visitors to any SSA facility: name, Social Security number (SSN), age, address, and date of birth (DOB), along with related claims processing information. The system will contain some, or all, of the following information about our employees, contractor employees, and DDS employees: personal identification number (PIN); position; function and office codes; access and exit times when logging-on to any SSA system; and names and locations of the systems (log files). We will retrieve information from the system via online analytical processing (OLAP) tools using any of the data elements that the system contains. Standardized reports will be created from the data. Thus, SUMS/MCAS will constitute a system of records under the Privacy Act.

II. Proposed Routine Use Disclosures of Data Maintained in SUMS/MCAS

A. Proposed Routine Use Disclosures

We are proposing to establish routine uses of information that will be maintained in SUMS/MCAS as discussed below.

1. To the Office of the President for the purpose of responding to an individual pursuant to an inquiry received from that individual or from a third party on his or her behalf.

We will disclose information under this routine use only in situations in which an individual contacts the Office of the President, seeking that Office's assistance in a matter relating to information contained in SUMS/MCAS. Information will be disclosed when the Office of the President makes an inquiry and indicates that it is acting on behalf of the individual whose record is requested.

2. To a congressional office in response to an inquiry from that office made at the request of the subject of a record.

We will disclose information under this routine use only in situations in which an individual asks his or her congressional representative to intercede in a matter relating to information contained in SUMS/MCAS. Information will be disclosed when the congressional representative makes an inquiry and indicates that he or she is acting on behalf of the individual whose record is requested.

3. To the Department of Justice (DOJ), a court or other tribunal, or another party before such tribunal when:

(a) SSA, or any component thereof; or

(b) Any SSA employee in his/her official capacity; or

(c) Any SSA employee in his/her individual capacity where DOJ (or SSA where it is authorized to do so) has agreed to represent the employee; or

(d) The United States or any agency thereof where SSA determines that the litigation is likely to affect the operation of SSA or any of its components,

is a party to litigation or has an interest in such litigation, and SSA determines that the use of such records by DOJ, a court or other tribunal, or another party before such tribunal, is relevant and necessary to the litigation, provided, however, that in each case, SSA determines that such disclosure is compatible with the purpose for which the records were collected.

We will disclose information under this routine use only as necessary to enable DOJ to effectively defend SSA, its components or employees, in litigation involving SUMS/MCAS and/or to ensure that courts and other tribunals have appropriate information.

4. To the Equal Employment Opportunity Commissioner (EEOC) when requesting information in connection with investigations into alleged or possible discriminatory practices in the Federal sector, examination of Federal affirmative employment programs, compliance by Federal agencies with the Uniform Guidelines on Employee Selection Procedures, or other functions vested in the Commission.

We will disclose information about our employees to the EEOC, as necessary, to assist in reassessing individuals' requests for reasonable accommodations; to assist in investigations into alleged or possible discriminatory practices in the Federal sector; to combat and prevent fraud, waste, and abuse under the Rehabilitation Act of 1973; and to assist the Commission in carrying out its other functions.

5. To the Federal Labor Relations Authority, the General Counsel, the Federal Mediation and Conciliation Service, the Federal Service Impasses Panel, or an arbitrator when information is requested in connection with investigations of allegations of unfair practices or of other matters before an arbitrator or the Federal Service Impasses Panel.

We will disclose information about our employees under this routine use, as necessary, to the Federal Labor Relations Authority, the General Counsel, the Federal Mediation and Conciliation Service, and the Federal Service Impasses Panel or an arbitrator, in which all or part of the allegations involve SUMS/MCAS.

6. To the Merit Systems Protection Board or the Office of the Special Counsel in connection with appeals, special studies of the civil service and other merit systems, review of rules and regulations, investigation of alleged or possible prohibited personnel practices, and other such functions promulgated in 5 U.S.C. Chapter 12, or as may be authorized by law.

We will disclose information about our employees under this routine use, as necessary, to the Merit Systems Protection Board or the Office of the Special Counsel, in which all or part of the allegations in the appeal or action involve SUMS/MCAS.

7. To contractors and other Federal agencies, as necessary, for the purpose of assisting SSA in the efficient administration of its programs. We contemplate disclosing information under this routine use only in situations in which SSA may enter into a contractual or similar agreement with a third party to assist in accomplishing an Agency function relating to SUMS/MCAS.

We will disclose information under this routine use only in situations where SSA enters into a contractual agreement or similar agreement with a third party to assist in accomplishing an Agency function relating to SUMS/MCAS.

8. To student volunteers, individuals who are working under a personal service contract, and other individuals performing functions for SSA, but technically not having the status of Agency employees, if they need access to the records in order to perform their assigned Agency functions.

Under certain Federal statutes, SSA is authorized to use the service of volunteers and participants in certain educational, training, employment, and community service programs. Examples of such statutes and programs include 5 U.S.C. 3111, which pertain to student volunteers, and 42 U.S.C. 2753, which pertain to the College Work-Study Program. We contemplate disclosing information under this routine use only when SSA uses the services of these individuals and they need access to information in this system to perform their assigned Agency duties.

9. To General Services Administration (GSA) and the National Archives and Records Administration (NARA) under 44 U.S.C. § 2904 and § 2906, as amended by NARA Act of 1984, information which is not restricted from disclosure by Federal law for the use of those agencies in conducting records management studies.

The Administrator of GSA and the Archivist of NARA are authorized by 44 U.S.C. 2904, as amended, to promulgate standards, procedures and guidelines regarding record management and conducting records management studies. GSA and NARA are authorized to inspect Federal agencies' records, for records management purposes, and agencies are expected to cooperate with GSA and NARA (44 U.S.C. 2906). In such instances, the routine use will allow disclosure.

10. To Federal, State, and local law enforcement agencies and private security contractors, as appropriate, information necessary:

• To enable them to protect the safety of SSA employees and customers, the security of the SSA workplace, or the operation of SSA facilities, or

• To assist investigations or prosecutions with respect to activities that affect such safety and security or activities that disrupts the operation of SSA facilities.

We will disclose information under this routine use to law enforcement agencies and private security contractors when information is needed to respond to, investigate, or prevent activities that jeopardize the security and safety of SSA customers, employees, or workplaces, or that otherwise disrupt the operation of SSA facilities. Information would also be disclosed to assist in the prosecution of persons charged with violating Federal, State, or local law in connection with such activities.

11. To the Secretary of Health and Human Services (HHS) or to any State, we will disclose any record or information requested in writing by the Secretary for the purpose of administering any program administered by the Secretary, if records or information of such type were so disclosed under applicable rules, regulations, and procedures in effect before the date of enactment of the Social Security Independence and Program Improvements Act of 1994.

We will disclose information under this routine use as directed in section 704(e)(1)(B) of the Social Security Independence and Program Improvements Act of 1994, which mandates certain disclosures to HHS components.

12. To appropriate Federal, State, and local agencies, entities, and persons when (1) we suspect or confirm that the security or confidentiality of information in this system of records has been compromised; (2) we determine that as a result of the suspected or confirmed compromise there is a risk of harm to economic or property interests, identity theft or fraud, or harm to the security or integrity of this system or other systems or programs of SSA that rely upon the compromised information; and (3) we determine that disclosing the information to such agencies, entities, and persons is necessary to assist in our efforts to respond to the suspected or confirmed compromise and to prevent, minimize, or remedy such harm. We will use this routine use to respond only to those incidents involving an unintentional release of our records.

This routine use specifically permits the disclosure of SSA information in connection with response and remediation efforts in the event of an unintentional release of Agency information, otherwise known as a “data security breach.” This routine use serves to protect the interests of the person whose information is at risk by allowing us to take appropriate steps to facilitate a timely and effective response to a data breach. It will also help us to improve our ability to prevent, minimize, or remedy any harm that may result from a compromise of data maintained in this system of records.

B. Compatibility of Proposed Routine Uses

The Privacy Act (5 U.S.C. 552a(b)(3)) and our disclosure regulations (20 CFR Part 401) permit us to disclose information under a published notice of routine use for a purpose that is compatible with the purpose for which we collected the information. Section 401.150(c) of our regulations permits us to disclose information under a routine use where necessary to carry out SSA programs. Section 401.120 provides that we will disclose information when a law specifically requires the disclosure. The proposed routine uses numbered 1 through 8, and 10 and 11 above, will ensure we efficiently administer SUMS/MCAS. The disclosure that would be made under routine uses number 9 and 12 are required by Federal law. Thus, all routine uses are appropriate and meet the relevant statutory and regulatory criteria.

III. Records Storage Medium and Safeguards for the Information Maintained in SUMS/MCAS

We will maintain information in SUMS/MCAS in paper and electronic form. Only authorized SSA, DDS, and contractor personnel who have a need for the information in the performance of their official duties will be permitted access to the information. We will safeguard the security of the information by requiring the use of access codes to enter the computer system that will maintain the data and will store computerized records in secured areas that are accessible only to employees who require the information to perform their official duties. We keep paper records in locked cabinets or in otherwise secure areas.

DDS and contractor personnel having access to data in SUMS/MCAS will be required to adhere to SSA rules concerning safeguards, access, and use of the data.

SSA, DDS, and contractor personnel having access to the data on this system will be informed of the criminal penalties of the Privacy Act for unauthorized access to, or disclosure of, information maintained in this system. See 5 U.S.C. 552a(i)(1).

IV. Effect of SUMS/MCAS on the Rights of Individuals

SUMS/MCAS will maintain only information that is necessary to carry out our official functions under the Social Security Act and other applicable Federal statutes. We will use security measures that protect access to, and preclude unauthorized disclosure of, records in SUMS/MCAS. Our maintenance and use of the information are in accordance with the provisions of the Privacy Act (5 U.S.C. § 552a) and SSA's disclosure regulations (20 CFR Part 401). We employ safeguards to protect all personal information in our possession as well as the confidentiality of the information. We will disclose information under the routine uses discussed above only as necessary to accomplish the stated purpose(s). Thus, we do not anticipate that SUMS/MCAS and its routine use disclosures will have an unwarranted adverse effect on the rights of the individuals to whom they pertain.

Dated: January 23, 2008.
Michael J. Astrue,
Commissioner.

Social Security Administration (SSA)

Notice of System of Records Required by the Privacy Act of 1974; as Amended

System number:

60-0371.

System name:

Social Security Administration Unified Measurement System/Managerial Cost Accountability (SUMS/MCAS).

Security classification:

None.

System location:

Office of Systems, SSA, 6401 Security Boulevard, Baltimore, Maryland 21235-6401.

Categories of individuals covered by the system:

SSA employees, individuals who do business with SSA (e.g., Social Security claimants, beneficiaries, attorney or non-attorney representatives, and representative payees), the State Disability Determination Services (DDS) employees and contractors who assist the Agency in administering the Agency's programs.

Categories of records in the system:

We collect records maintained in SUMS/MCAS for management information (MI) in administering the Agency's programs to improve customer service and to produce detailed reports that will assist us in assessing office, unit, and employee performance. Specifically, it will contain some or all of the following information about individuals who do business with SSA: Name, Social Security number (SSN), age, address, and date of birth (DOB), along with other claims related processing information. The system will contain some or all of the following information about our employees, DDS employees, and contractor employees: Name; SSN; personal identification number (PIN); position; function and office codes; access and exit times when logging on any SSA system; and names and locations of the systems (log files).

The records will consist of information from SSA's mainframe and web-based computer usage files (log files); payroll and human resource databases; security files including the Internet verification file and Internet enterprise security interface; and programmatic work measurement data collected from all SSA processing locations.

Authority for Maintenance of the System:

Section 205(a) of the Social Security Act (42 U.S.C. 405(a)).

Chief Financial Officers (CFO) Act (1990)—Provides for the integration and modernization of Federal financial systems and requires development of reporting of cost information.

Government Performance and Results Act (GPRA) (1993)—GPRA requires development of Agency strategic plans and performance goals, measurement and reporting on actual performance compared to goals, computation of costs and unit costs as key performance indicators, and comparison of costs with outputs and outcomes.

Government Management Reform Act (GMRA) (1994)—Requires an agency-wide performance and financial statement, an audited statement, and cost information.

Federal Financial Management Improvement Act (FFMIA) (1996)—Mandates that agencies establish financial management systems that comply with Federal standards and requirements. It directs auditors to report on compliance as part of the review of agency financial statements.

Office of Management and Budget (OMB) Standards—Require SSA to implement a modern managerial cost accounting system that satisfies all needs at all managerial decision levels.

Purpose(s):

SUMS/MCAS includes five interrelated Agency initiatives: (1) Workload Counts; (2) Performance Measures; (3) Time Allocation; (4) Customer Service Record; and (5) Managerial Cost Accountability, which will provide a single source for data, collected in a consistent manner to improve the quality, consistency, and accessibility of MI. SUMS/MCAS will enable the Agency to:

• Improve customer service and enhance the Agency's ability to monitor customer service;

• Create a unified work measurement and work power (i.e., the amount of time it takes to do one piece of work) identification system providing simpler access to information for reporting data;

• Produce detailed reports that will assist us in assessing office, unit, and employee performance;

• Consolidate the Agency workload structure and provide data at any office level, down to a specific employee;

• Allocate work-time usage information consistently for all components, workload activities, and the time that it takes to perform work and calculate productivity;

• Accommodate new workloads in a flexible work-measurement system by shifting work to locations where capacity exists, improving customer service;

• Ensure an accurate cost allocation of work performed by SSA;

• Manage and account for resources through one uniform source of MI;

• Measure outcomes, determine full costs, control resources, assess performance and provide timely feedback to managers to enhance the Agency's accountability and customer service; and

• Satisfy government-wide managerial cost accounting regulations and enable the Agency to link resource expenditures with performance, as required by legislation and other government-wide requirements stated in:

1. CFO Act of 1990;

2. GPRA Act of 1993;

3. GMRA Act of 1994;

4. FFMIA Act of 1996; and

5. OMB Standards.

Routine Uses of Records Maintained in the System, Including Categories of Users and the Purpose of Such Uses:

Disclosure may be made for routine uses as indicated below.

1. To the Office of the President for the purpose of responding to an individual pursuant to an inquiry received from that individual or from a third party on his or her behalf.

2. To a congressional office in response to an inquiry from that office made at the request of the subject of a record.

3. To the Department of Justice (DOJ), a court or other tribunal, or another party before such tribunal when:

a. SSA, or any component thereof; or

b. Any SSA employee in his or her official capacity; or

c. Any SSA employee in his or her individual capacity where DOJ (or SSA where it is authorized to do so) has agreed to represent the employee; or

d. The United States or any agency thereof where SSA determines that the litigation is likely to affect the operations of SSA or any of its components, is a party to litigation or has an interest in such litigation, and SSA determines that the use of such records by DOJ, a court or other tribunal, or another party before such tribunal, is relevant and necessary to the litigation, provided, however, that in each case, SSA determines that such disclosure is compatible with the purpose for which the records were collected.

4. To the Equal Employment Opportunity Commission when requesting information in connection with investigations into alleged or possible discriminatory practices in the Federal sector, examination of Federal affirmative employment programs, compliance by Federal agencies with the Uniform Guidelines on Employee Selection Procedures, or other functions vested in the Commission.

5. To the Federal Labor Relations Authority, the General Counsel, the Federal Mediation and Conciliation Service, the Federal Service Impasses Panel, or an arbitrator when information is requested in connection with the investigations of allegations of unfair practices or of other matters before an arbitrator or the Federal Impasses Panel.

6. To the Merit Systems Protection Board or the Office of the Special Counsel in connection with appeals, special studies of the civil service and other merit systems, review of rules and regulations, investigation of alleged or possible prohibited personnel practices, and other such functions promulgated in 5 U.S.C. Chapter 12, or as may be authorized by law.

7. To contractors and other Federal agencies, as necessary, for the purpose of assisting SSA in the efficient administration of its programs. We contemplate disclosing information under this routine use only in situations in which SSA may enter into a contractual or similar agreement with a third party to assist in accomplishing an Agency function relating to this system of records.

8. To student volunteers, individuals working under a personal service contract, and other workers who technically do not have the status of Federal employees, when they are performing work for the SSA, as authorized by law, and they need access to personally identifiable information in SSA records in order to perform their assigned Agency functions.

9. To General Services Administration and the National Archives and Records Administration (NARA) under 44 U.S.C. 2904 and 2906, as amended by NARA Act of 1984, information which is not restricted from disclosure by Federal law for the use of those agencies in conducting records management studies.

10. To Federal, State, and local law enforcement agencies and private security contractors, as appropriate, information necessary:

• To enable them to protect the safety of SSA employees and customers, the security of the SSA workplace, or the operation of SSA facilities, or

• To assist investigations or prosecutions with respect to activities that affect such safety and security or activities that disrupt the operation of SSA facilities.

11. To the Secretary of Health and Human Services or to any State, we will disclose any record or information requested in writing by the Secretary for the purpose of administering any program administered by the Secretary, if records or information of such type were so disclosed under applicable rules, regulations, and procedures in effect before the date of enactment of the Social Security Independence and Program Improvements Act of 1994.

12. To appropriate Federal, State, and local agencies, entities, and persons when (1) We suspect or confirm that the security or confidentiality of information in this system of records has been compromised; (2) we determine that as a result of the suspected or confirmed compromise there is a risk of harm to economic or property interests, identity theft or fraud, or harm to the security or integrity of this system or other systems or programs of SSA that rely upon the compromised information; and (3) we determine that disclosing the information to such agencies, entities, and persons is necessary to assist in our efforts to respond to the suspected or confirmed compromise and to prevent, minimize, or remedy such harm. We will use this routine use to respond only to those incidents involving an unintentional release of our records.

Policies and Practices for Storing, Retrieving, Accessing, Retaining and Disposing of Records in the System:

Storage:

We maintain and store records in SUMS/MCAS in electronic and paper form. We keep paper records in locked cabinets or in otherwise secure areas.

Retrievability:

We retrieve records in SUMS/MCAS by the name, SSN, age, address, and DOB of individuals who do business with SSA (e.g., Social Security claimants, beneficiaries, attorney or non-attorney representatives, and representative payees). We retrieve records in SUMS/MCAS by the name, SSN, PIN, position code, function or office location codes of employees, DDS employees and contractors.

Safeguards:

Security measures include the use of access codes to enter the computer system that maintains the data; computerized records will be stored in secured areas that are accessible only to employees who require the information in performing their official duties. All paper records will be kept in locked cabinets or in otherwise secure areas. SSA and DDS employees who have access to the data will be informed of the criminal penalties of the Privacy Act for unauthorized access to or disclosure of information maintained in the system. See 5 U.S.C. 552a(i)(1).

Contractor personnel having access to data in the system of records will be required to adhere to SSA rules concerning safeguards, access, and use of the data.

Retention and Disposal:

The project will adhere to NARA record retention standards as outlined in the SUMS/MCAS Global Requirements document. Specific retention periods follow NC-47-75-7 as shown below:

(1) Data source extract records housed in the SUMS/MCAS active data warehouse will be retained for 2 full fiscal years plus the current fiscal year.

(2) Active detail records and corresponding summary records housed in the SUMS/MCAS active data warehouse will be retained for 9 full fiscal years plus the current fiscal year.

(3) Long term offline archive of summary data housed in the SUMS/MCAS long term offline archive database will be retained for a total of 50 years or 40 additional years from the time it moves from the active data warehouse.

(4) MI housed in the Operational Data Stores (ODS) will be retained for a maximum of 5 years.

(5) Reference data housed in reference tables within the active data warehouse will be maintained in the active data warehouse for 50 years.

System Manager(s) and Address:

SUMS/MCAS Program Manager, Office of Systems, Social Security Administration, 6401 Security Boulevard, Baltimore, Maryland 21235-6401.

Notification Procedure(s):

An individual may determine if this system contains a record about him or her by writing to the systems manager(s) at the above address and providing his or her name, SSN, or other information that may be in the system of records that will identify him or her. An individual requesting notification of records in person should provide the same information, as well as provide an identity document, preferably with a photograph, such as a driver's license, or some other means of identification. If an individual does not have any identification documents sufficient to establish his or her identity, the individual must certify in writing that he or she is the person he or she claims to be and that he or she understands that the knowing and willful request for, or acquisition of, a record pertaining to another individual under false pretenses is a criminal offense.

If notification is requested by telephone, an individual must verify his or her identity by providing identifying information that parallels the record to which notification is being requested. The individual will be required to submit a request in writing or in person, if we determine that the identifying information provided by telephone is insufficient. If an individual is requesting information by telephone on behalf of another individual, the subject individual must be connected with SSA and the requesting individual in the same phone call. SSA will establish the subject individual's identity (his or her name, SSN, address, date of birth, and place of birth, along with one other piece of information such as mother's maiden name) and ask for his or her permission to provide the information to the requesting individual.

If a request for notification is submitted by mail, an individual must include a notarized statement to SSA to verify his or her identity or must certify in the request that he or she is the person he or she claims to be and that he or she understands that the knowing and willful request for, or acquisition of, a record pertaining to another individual under false pretenses is a criminal offense. These procedures are in accordance with SSA regulations (20 CFR 401.40).

Record Access Procedure(s):

Same as Notification procedures. Requesters also should reasonably specify the record contents they are seeking. These procedures are in accordance with SSA regulations (20 CFR 401.40).

Contesting Record Procedure(s):

Same as Notification procedures. Requesters should also reasonably identify the record, specify the information they are contesting, and state the corrective action sought and the reasons for the correction with supporting justification showing how the record is untimely, incomplete, inaccurate, or irrelevant. These procedures are in accordance with SSA Regulations (20 CFR 401.65).

Record Source Categories:

The information that SSA will collect and maintain in SUMS/MCAS will consist of information from SSA's mainframe customer information control system, system management facility transaction logs, visitor intake process data extracts, payroll operations data store, position codes, report office table, Internet verification file, electronic disability collect system and related applications, customer help and information programs, Medicare application processing system, Internet enterprise security interface log files, travel manager, processing center, work measurement transaction database, district office weekly report, SSA web-based applications, programmatic processes, and operational data stores.

Systems Exempt from Certain Provisions of the Privacy Act:

None.

[FR Doc. E8-1674 Filed 1-29-08; 8:45 am]

BILLING CODE 4191-02-P